DEPARTMENT OF TRANSPORTATION

Federal Aviation Administration

Public Notice For Waiver of Aeronautical Land-Use Assurance; MBS International Airport, Saginaw, Michigan

AGENCY: Federal Aviation Administration, DOT.

ACTION: Notice of intent of waiver with respect to land.

SUMMARY: The Federal Aviation Administration (FAA) is considering a proposal to change a portion of the MBS International Airport (MBS) from aeronautical use to non-aeronautical use and to authorize the sale of the airport property. The proposal consists of the sale of vacant, unimproved land owned by the MBS International Airport Commission (Commission).

The Commission has requested from FAA a “Release from Federal agreement obligated land covenants” to sell a portion of Parcel 6 which was acquired on March 14, 1949, under Instrument of Transfer from the United States of America, acting by and through the War Assets Administrator, to the Cities of Saginaw, Bay City, and Midland (recorded in Liber 802, pages 206-216).

There are no impacts to the airport by allowing the Commission to dispose of the vacant property. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before July 28, 2008.

ADDRESSES: Mr. David J. Welhouse, Program Manager, Detroit Airports District Office, 11677 South Wayne Road, Suite 107, Romulus, Michigan 48174.

FOR FURTHER INFORMATION CONTACT: Mr. David J. Weihouse, Program Manager, Detroit Airports District Office, 11677 South Wayne Road, Suite 107, Romulus, Michigan 48174. Telephone Number (734) 229-2952/FAX Number (734) 229-2950. Documents reflecting this FAA action may be reviewed at this same location or at the MES International Airport, Freeland, Michigan.

SUPPLEMENTARY INFORMATION: Following is a legal description of the property located in Tittabawassee Township, Saginaw County, Michigan, and described as follows:

Description of That Portion of Parcel 6 Being Released (2.96 Acres)

Part of the north 1/2 of the northeast 1/4 of Section 22, T13NR3E, Tittabawassee Township, Saginaw County, Michigan, being further described as commencing at the east 1/4 corner of said Section; Thence north 00 degrees 35 minutes 36 seconds east, 1323.02 feet, on the east Section line, to the north 1/8 line and the Point of Beginning; Thence north 89 degrees 33 minutes 09 seconds west, 475.00 feet, on said 1/8 line; Thence north 00 degrees 35 minutes 36 seconds east, 133.62 feet; Thence north 45 degrees 25 minutes 53 seconds east, 353.12 feet, to the southerly line of Freeland Road Right-of-Way; Thence south 48 degrees 55 minutes 51 seconds east, 297.12 feet, on said line, to the east Section line; Thence south 00 degrees 35 minutes 36 seconds west, 189.94 feet, on said Section line, to the Point of Beginning, containing 2.96 acres, more of less.

Issued in Romulus, Michigan on May 30, 2008.
Matthew J. Thys,
Manager, Detroit Airports District Office, FAA, Great Lakes Region.

[FR Doc. E8-14386 Filed 6-25-08; 8:45 am]

BILLING CODE 4910-13-M